FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 25, 2010.

A. Federal Reserve Bank of Atlanta (Clifford Stanford, Vice President) 1000 Peachtree Street, N.E., Atlanta, Georgia 30309:

1. Shelby C. Peeples, Jr., and Willena Peeples, both of Dalton, Georgia; W. Bryan Peeples, Amy L. Peeples, G. Thomas Peeples, Garrett T. Peeples Trust, with G. Thomas Peeples as trustee, and Vickie D. Peeples, all of Ringgold, Georgia; Jane Stanfield, Dalton, Georgia; Syndi Peeples Paris, Ringgold, Georgia; Michelle Stanfield Evans, and John P. Neal, III, both of Dalton, Georgia, as trustee for Asa Wallace Peeples Trust, Chapman D. Peeples Trust, Rhett Shelby Peeples Trust, Ellys Allene Peeples Trust, Gage W. Peeples Trust, Garrett T. Peeples Trust, Lily L. Peeples Trust, Syndi M. Peeples Trust, all of Ringgold, Georgia, and W. Michelle Stanfield Evans Trust, Dalton, Georgia, to retain voting shares of FBD Holding Company, Inc., and thereby indirectly retain voting shares of First Bank of Dalton, both of Dalton, Georgia.

2. John Milton Wise, Sr.; Lilellen Hicks Wise; Mack Arthur Wise; John Milton Wise, Jr.; Stephanie Wise Jones; Michael Eugene Jones; Candace Aline Jones Sansing; Klein McCaegor Jones; and Sadie Ellen Jones, all of Luverne, Alabama, to collectively acquire additional voting shares of First Citizens-Crenshaw Bancshares, Inc., and thereby indirectly acquire additional voting shares of First Citizens Bank, both of Luverne, Alabama.

B. Federal Reserve Bank of Minneapolis (Jacqueline G. King, Community Affairs Officer) 90 Hennepin Avenue, Minneapolis, Minnesota 55480-0291:

1. Richard G. Anderson, Helena, Montana, individually, and as part of a group acting in concert with Dick and Margaret Anderson, FLP; Dick Anderson Construction, Inc.; Dick Anderson Construction Profit Sharing Plan & Trust; MA Construction, Inc., (fka MAC Equipment Rental); Margaret F. Anderson; Norma J. Anderson, all of Helena, Montana; and David L. Anderson, Los Altos Hills, California; to acquire and retain control of Mountain West Financial Corp., and thereby indirectly acquire and retain control of Mountain West Bank, National Association, both of Helena, Montana.

2. Sandra and Jule Jacobson, both of Plentywood, Montana; to acquire voting shares of Treasure Bancorp, Inc., and thereby indirectly gain control of Montana State Bank, both of Plentywood, Montana. In addition, Edward and Lois Angvick, Medicine Lake, Montana, as a group acting in concert, have also applied to acquire voting shares of Treasure Bancorp, Inc., and thereby indirectly gain control of Montana State Bank, both of Plentywood, Montana. Furthermore, Walter Norbo; the Julia J. Norbo Exemption Trust; and Patsy Morstad, trustee of the Julia J. Norbo Exemption Trust, all of Plentywood, Montana, as a group acting in concert, have applied to acquire voting shares of Treasure Bancorp, Inc., and thereby indirectly gain control of Montana State Bank, both of Plentywood, Montana.

Board of Governors of the Federal Reserve System, August 5, 2010.
Robert deV. Frierson,
Deputy Secretary of the Board.

[FR Doc. 2010-19691 Filed 8-9-10; 8:45 am]

BILLING CODE 6210-01-S